DEPARTMENT OF AGRICULTURE

Agricultural Marketing Service

[Document No. AMS-LP-19-0022]

2019 Rates Charged for AMS Services

AGENCY: Agricultural Marketing Service, USDA.

ACTION: Notice; correction.

SUMMARY: On April 30, 2019, the Agricultural Marketing Service (AMS) published a notice announcing the 2019 rates it will charge for voluntary grading, inspection, certification, auditing, and laboratory services for a variety of agricultural commodities including meat and poultry, fruits and vegetables, eggs, dairy products, and cotton and tobacco. This document makes corrections to the overtime and holiday rates charged to grade specialty crops.

DATES: August 15, 2019.

FOR FURTHER INFORMATION CONTACT: Charles Parrott, AMS, U.S. Department of Agriculture, Room 3070-S, 1400 Independence Ave. SW, Washington, DC 20250; telephone (202) 260-9144, fax (202) 692-0313, email charles.parrott@usda.gov.

SUPPLEMENTARY INFORMATION: The Agricultural Marketing Act of 1946, as amended, (AMA) (7 U.S.C. 1621-1627), provides for the collection of fees to cover costs of various inspection, grading, certification or auditing services covering many agricultural commodities and products. On April 30, 2019, AMS published a notice announcing the 2019 rates it will charge for voluntary grading, inspection, certification, auditing, and laboratory services for a variety of agricultural commodities including meat and poultry, fruits and vegetables, eggs, dairy products, and cotton and tobacco. This document makes corrections to the overtime and holiday rates charged to grade specialty crops.

Federal Register Correction

Effective August 15, 2019, 2019, in notice document AMS-LP-19-0022, at Vol. 84, No. 83 in the issue of April 30, 2019, on page 18234, the rates for specialty crops are corrected to read as follows:

| Regular | Overtime | Holiday | Includes travel costs in rate | Start date
Specialty Crops Fees
7 CFR Part 51—Fresh Fruits, Vegetables and Other Products (Inspection, Certification, and Standards)
Subpart A—Regulations; §§ 51.37-51.44 Schedule of Fees and Charges at Destination Markets; § 51.45 Schedule of Fees and Charges at Shipping Point Areas
Quality and Condition Inspections for Whole Lots | $210.00 per lot |  |  |  | Oct 1, 2019.
Quality and Condition Half Lot or Condition-Only Inspections for Whole Lots | $174.00 per lot |  |  |  | Oct 1, 2019.
Condition—Half Lot | $161.00 per lot |  |  |  | Oct 1, 2019.
Quality and Condition or Condition-Only Inspections for Additional Lots of the Same Product | $96.00 per lot |  |  |  | Oct 1, 2019.
Dockside Inspections—Each package weighing <30 lbs | $0.044 per pkg. |  |  |  | Oct 1, 2019.
Dockside Inspections—Each package weighing >30 lbs | $0.068 per pkg. |  |  |  | Oct 1, 2019.
Charge per Individual Product for Dockside Inspection | $210.00 per lot |  |  |  | Oct 1, 2019.
Charge per Each Additional Lot of the Same Product | $96.00 per lot |  |  |  | Oct 1, 2019.
Inspections for All Hourly Work | $93.00 | $125.00 | $157.00 |  | Oct 1, 2019
Audit Services—Federal | $115.00 |  |  |  | Oct 1, 2019.
Audit Services—State | $115.00 |  |  |  | Oct 1, 2019.
GFSI Certification Fee | $250 per audit |  |  |  | Oct 1, 2019.
7 CFR Part 52—Processed Fruits and Vegetables, Processed Products Thereof, and Other Processed Food Products
Subpart—Regulations Governing Inspection and Certification; §§ 52.41-52.51 Fees and Charges
Lot Inspections | $75.00 | $104.00 | $133.00 |  | Oct 1, 2019.
In-plant Inspections Under Annual Contract (year-round) | $75.00 | $103.00 | $130.00 |  | Oct 1, 2019.
Additional Graders (in-plant) or Less Than Year-Round | $85.00 | $114.00 | $142.00 |  | Oct 1, 2019.
Audit Services—Federal | $115.00 |  |  |  | Oct 1, 2019.
Audit Services—State | $115.00 |  |  |  | Oct 1, 2019.
GFSI Certification Fee | $250 per audit |  |  |  | Oct 1, 2019.

Dated: August 8, 2019.
Bruce Summers,
Administrator.

[FR Doc. 2019-17361 Filed 8-13-19; 8:45 am]

BILLING CODE 3410-02-P